ENVIRONMENTAL PROTECTION AGENCY

40 CFR PART 52

[EPA-R05-OAR-2020-0055; FRL-10008-28-Region 5]

Air Plan Approval; Ohio; Technical Amendment

AGENCY: Environmental Protection Agency (EPA).

ACTION: Proposed rule; extension of public comment period.

SUMMARY: The Environmental Protection Agency (EPA) is extending the comment period for a proposed rule published March 23, 2020. On March 23, 2020, EPA proposed to remove the air pollution nuisance rule from the Ohio State Implementation Plan using the Clean Air Act error correction provision. In response to a request from a member of the public, EPA is extending the comment period for 30 days.

DATES: The comment period is extended to May 22, 2020.

ADDRESSES: Submit comments, identified by Docket ID No. EPA-R05-OAR-2020-0055, to: Douglas Aburano, Chief, Attainment Planning and Maintenance Section, Air Programs Branch (AR-18J), U.S. Environmental Protection Agency, Region 5, 77 West Jackson Boulevard, Chicago, Illinois 60604, aburano.douglas@epa.gov. Additional instructions to comment can be found in the notice of proposed rulemaking published March 23, 2020 (85 FR 16309).

FOR FURTHER INFORMATION CONTACT: Rachel Rineheart, Environmental Engineer, Air Planning and Maintenance Section, Air Programs Branch (AR-18J), U.S. Environmental Protection Agency, Region 5, 77 West Jackson Boulevard, Chicago, Illinois 60604, (312) 886-7017, rineheart.rachel@epa.gov.

Dated: April 14, 2020.
Kurt Thiede,
Regional Administrator, Region 5.

[FR Doc. 2020-08148 Filed 4-21-20; 8:45 am]

BILLING CODE 6560-50-P